DEPARTMENT OF STATE

[Public Notice #: 3309]

U.S. Advisory Commission on Public Diplomacy; Notice of Meeting

The U.S. Advisory Commission on Public Diplomacy, reauthorized pursuant to Public Law 106-113 (H.R. 3194, consolidated Appropriations Act, 2000), will meet on Thursday, May 18, 2000, in Room 600, 301 4th St., SW, Washington, DC from 2:00 pm to 3:00 pm.

The Commission will discuss its plans for assessing the consolidation of USIA into the State Department and the effectiveness of U.S. public diplomacy in the former Soviet Union.

Members of the general public may attend the meeting, though attendance of public members will be limited to the seating available. Access to the building is controlled, and individual building passes are required for all attendees. Persons who plan to attend should contact David J. Kramer, Executive Director, at (202) 619-4463.

Dated: May 10, 2000.
David J. Kramer,
Executive Director, U.S. Advisory Commission on Public Diplomacy, Department of State.

[FR Doc. 00-12279 Filed 5-11-00; 3:10 pm]

BILLING CODE 4710-11-P